Title 3—

The President

Proclamation 7846 of November 15, 2004

America Recycles Day, 2004

By the President of the United States of America

A Proclamation

Our Nation is dedicated to good stewardship of our natural resources. On America Recycles Day, we reaffirm our commitment to preserving our resources and recycling.

Our country produces more than 200 million tons of municipal solid waste—approximately 4 pounds of waste per person per day. As more garbage is generated, the demands on our landfills, natural resources, and environment continue to grow. Recycling helps conserve energy and natural resources, provides raw materials for key domestic industries, reduces air and water pollution, cuts greenhouse gas emissions, and promotes the development of cleaner technologies. Recycling and composting diverts millions of tons of material away from landfills and incinerators. Through curbside collection and recyclable drop-off centers, communities across our Nation are demonstrating their commitment to protecting our environment and to building a better future for our next generation.

NOW, THEREFORE, I, GEORGE W. BUSH, President of the United States of America, by virtue of the authority vested in me by the Constitution and laws of the United States, do hereby proclaim November 15, 2004, as America Recycles Day. I call upon the people of the United States to observe this day with appropriate programs and activities.

IN WITNESS WHEREOF, I have hereunto set my hand this fifteenth day of November, in the year of our Lord two thousand four, and of the Independence of the United States of America the two hundred and twenty-ninth.

B

[FR Doc. 04-25776

Filed 11-17-04; 9:09 am]

Billing code 3195-01-P